FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011793.

Title: Maersk Sealand/Great Western Asia-U.S. West Coast Slot Charter Agreement.

Parties: A.P. Moller-Maersk Sealand, Great Western Steamship Company.

Synopsis: Under the proposed agreement, Great Western will charter container slots from Maersk Sealand in the trade between U.S. West Coast ports and ports in Asia. The parties request expedited review.

Agreement No.: 011794.

Title: COSCON/KL/YMUK/Hanjin/Senator Asia & Europe/U.S. Atlantic & Gulf Coast Slot Allocation & Sailing Agreement.

Parties: COSCO Container Lines Company, Limited, Hanjin Shipping Co., Ltd., Kawasaki Kisen Kaisha, Ltd., Senator Lines GmbH, Yangming (UK) Ltd.

Synopsis: Under the proposed agreement, the parties will be selling or exchanging container slots and coordinating their services in the trades between U.S. Atlantic and Gulf ports and ports in Asia, Central America, and Europe.

Agreement No.: 201087-001.

Title: Oakland-International Transportation Marine Terminal Agreement.

Parties: City of Oakland, Board of Port Commissioners, International Transportation Service, Inc.

Synopsis: The proposed amendment foresees the replacement of cranes with resultant changes in the breakpoint level and the minimum annual guarantee as well as a change in the extent of the premises covered by the agreement. The agreement continues to run through June 30, 2003.

Agreement No.: 201131.

Title: NY/NJ-Maher Lease Agreement.

Parties: The Port Authority of New York and New Jersey, Maher Terminals, Inc.

Synopsis: The agreement covers the lease of a marine terminal at the port authority's Elizabeth Marine Terminal. The agreement runs through September 30, 2030.

Agreement No.: 201132.

Title: NY/NJ-Port Newark Container Terminal LLC Lease Agreement.

Parties: The Port Authority of New York and New Jersey, Port Newark Container Terminal LLC.

Synopsis: The agreement covers the lease of a marine terminal at the port authority's Newark Marine Terminal. The agreement runs through November 30, 2030.

Dated: March 15, 2002.
By Order of the Federal Maritime Commission.
Bryant L. VanBrakle,
Secretary.

[FR Doc. 02-6746 Filed 3-19-02; 8:45 am]

BILLING CODE 6730-01-P